ENVIRONMENTAL PROTECTION AGENCY

40 CFR Parts 51, 52, 72, 78, and 97

[EPA-HQ-OAR-2009-0491; FRL-9217-7]

Notice of Data Availability Supporting Federal Implementation Plans To Reduce Interstate Transport of Fine Particulate Matter and Ozone: Revisions to Emission Inventories

AGENCY: Environmental Protection Agency (EPA).

ACTION: Notice of data availability (NODA).

SUMMARY: EPA is providing notice that it is supplementing the record for the Proposed Transport Rule (75 FR 45210). EPA has placed in the docket for the Proposed Transport Rule (Docket ID No. EPA-HQ-OAR-2009-0491) additional information relevant to the rulemaking, including updated emissions inventory data for 2005, 2012 and 2014 for several stationary and mobile source inventory components. The data revisions reflect new approaches to calculating emissions inventories for specific source categories and related new information and models that have become available since the emissions data were developed and modeled for the proposed rule. EPA is requesting comment on the new data provided in the docket and the proposed revisions identified in this document. These data and revisions could impact the final rule, although such impacts have not yet been quantified by EPA.

DATES: Comments on the NODA must be received on or before November 26, 2010. Please refer to SUPPLEMENTARY INFORMATION for additional information on submitting comments.

ADDRESSES: Submit your comments, identified by Docket ID No. EPA-HQ-OAR-2009-0491, by one of the following methods:

• http://www.regulations.gov. Follow the on-line instructions for submitting comments.

• Fax: (202) 566-9744. Attention Docket ID No. EPA-HQ-OAR-2009-0941.

• Mail: EPA Docket Center, EPA West (Air Docket), Attention Docket ID No. EPA-HQ-OAR-2009-0491, U.S. Environmental Protection Agency, Mailcode: 2822T, 1200 Pennsylvania Ave., NW., Washington, DC 20460. Please include a total of 2 copies.

• Hand Delivery: U.S. Environmental Protection Agency, EPA West (Air Docket), 1301 Constitution Avenue, NW., Room 3334, Washington, DC 20004, Attention Docket ID No. EPA-HQ-OAR-2009-0491. Such deliveries are only accepted during the Docket's normal hours of operation, and special arrangements should be made for deliveries of boxed information.

Instructions: Direct your comments to Docket ID No. EPA-HQ-OAR-2009-0491. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air and Radiation Docket and Information Center, EPA/DC, EPA East Building, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For questions regarding the revised future-year emissions data, contact Rich Mason, Air Quality Assessment Division, Environmental Protection Agency, C339-02, 109 T.W. Alexander Drive, Research Triangle Park, NC 27709; telephone number: (919) 541-3405; fax number: (919) 541-0684; e-mail address: mason.rich@epa.gov. For all other questions on these data, contact Alison Eyth, Air Quality Assessment Division, Environmental Protection Agency, C339-02, 109 T.W. Alexander Drive, Research Triangle Park, NC 27709; telephone number: (919) 541-2478; fax number: (919) 541-0684; e-mail address: eyth.alison@epa.gov.

SUPPLEMENTARY INFORMATION: Detailed background information describing the proposed rulemaking may be found in a previously published document: Federal Implementation Plans to Reduce Interstate Transport of Fine Particulate Matter and Ozone (Proposed Transport Rule); Proposed Rule (75 FR 45210, August 2, 2010). The information placed in the docket is also available for public review on the Web site for the Transport Rule at http://www.epa.gov/airtransport/. If additional relevant supporting information becomes available in the future, EPA will place this information in the docket and make it available for public review on this Web site. EPA is requesting comment only on the data and revisions explicitly identified in this document. EPA requested comment on all aspects of its emissions inventories in the proposed Transport Rule. The comment period for that proposal closed on October 1, 2010. EPA has not yet reviewed all comments received on the proposed Transport Rule and notes that emission inventory data may be further revised based on comments received on the proposed Transport Rule or on additional information that becomes available before the rule is finalized.

I. Additional Information on Submitting Comments

A. How can I help EPA ensure that my comments are reviewed quickly?

To expedite review of your comments by Agency staff, you are encouraged to send a separate copy of your comments, in addition to the copy you submit to the official docket, to: Alison Eyth, Air Quality Assessment Division, USEPA, C339-02, 109 T.W. Alexander Drive, Research Triangle Park, NC 27709; e-mail address: eyth.alison@epa.gov.

B. What should I consider as I prepare my comments for EPA?

1. Submitting CBI. Do not submit this information to EPA through EDOCKET, http://www.regulations.gov, or e-mail. Clearly mark the part or all of the information that you claim to be CBI. For CBI information in a disk or CD-ROM that you mail to the EPA docket office specified in the Instructions, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments.

When submitting comments, remember to:

i. Identify the NODA by docket number and other identifying information (subject heading, Federal Register date and page number).

ii. Follow directions. The Agency may ask you to respond to specific questions or organize comments by referencing a Code of Federal Regulations (CFR) part or section number.

iii. Explain your comments, why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Web Site for Rulemaking Information

EPA has previously established a Web site for the proposed rulemaking at http://www.epa.gov/airtransport. The Web site includes the proposed rulemaking actions and other related information that the public may find useful in addition to a link to this NODA.

III. New Information Placed in the Docket

EPA requests comment on the information described below that has been added to the proposed Transport Rule docket: EPA-HQ-OAR-2009-0491.

• Revised 2012 and 2014 projected non-electric generating units (EGU) emissions for the cement industry, including new units and facilities and closures; and for 2014, only expected facility changes as provided by the Industrial Sector Integrated Solutions model as described by the National Emission Standards for Hazardous Air Pollutants From the Portland Cement Manufacturing Industry, and Standards of Performance for Portland Cement Plants, September 9, 2010 (75 FR 54969).

• Revised 2012 and 2014 projected emissions from the non-EGU point and nonpoint emissions sectors to reflect emissions reductions resulting from the National Emission Standards for Hazardous Air Pollutants for Reciprocating Internal Combustion Engines, August 20, 2010 (75 FR 51570).

• Revised 2012 and 2014 non-EGU point and nonpoint projected emissions to reflect controls required by the New York State Implementation Plan.

• Revised 2012 and 2014 nonpoint emissions to reflect improved information on the oil and gas production sector in Texas and Oklahoma.

• Revised spatial surrogate used to allocate county-level oil and gas emissions into grid cells for 2005, 2012, and 2014.

• Revised temporal allocation for the nonpoint fugitive dust emissions sector.

• Revised allocation of volatile organic compounds to the species used by the air quality modeling for headspace vapor associated with the nonroad mobile emissions sector.

• Expanded summary spreadsheet for point sources to add total particulate matter less than 2.5 microns (PM2.5) emissions split into a filterable and condensable portion of PM2.5 for each facility. This spreadsheet does not include the other changes listed above that affect point sources. Documentation is provided in the spreadsheet on the location of the data used for computing the condensable PM2.5 emissions in the 2005 point inventory.

Additionally, EPA seeks comment on whether or not to revise projected non-EGU emissions inventories for 2014 to reflect sulfur dioxide (SO2) and PM2.5 reductions from the proposed National Emissions Standards for Hazardous Air Pollutants for Major Sources: Industrial, Commercial, and Institutional Boilers and Process Heaters (75 FR 32006), hereafter referred to as the “Major Source Boiler Rule.” The information included in the docket reflects reductions that would be expected if the rule were finalized as proposed. If the projected reductions associated with the final Major Source Boiler Rule were to differ from the projected reductions associated with the proposal, EPA would use the projections for the final rule if they become available in time for use in EPA's modeling for the final Transport Rule.

In addition, EPA requests comment on the following modified approaches to calculating emissions inventories that we intend to use in the modeling for the final Transport Rule.

• EPA proposes to use the latest public release of the Motor Vehicle Emissions Simulator (MOVES) (http://www.epa.gov/otaq/models/moves/index.htm) to estimate on-road mobile emissions data in 2005, 2012, and 2014 for all modeled pollutants and emissions processes in all States, except California. Future-year vehicle miles traveled will be revised from proposal to reflect the latest available data. This approach differs from the proposal in the following significant ways: (1) EPA will use a newer version of MOVES which has different emissions values from the version of MOVES used for the proposal; (2) EPA will use MOVES instead of the Mobile Source Emission Factor Model version 6.2 (MOBILE6) for diesel vehicles and motorcycles; (3) EPA will use MOVES instead of MOBILE6 for additional pollutants, including SO2, ammonia (NH3), and PM2.5 from brake and tire wear; (4) the revised MOVES reflects NH3 decreases in future years that were not reflected by MOBILE6; and, (5) EPA will use actual MOVES runs for 2012 and 2014 rather than scaling 2005 MOVES emissions. With the exception of these changes, EPA intends to continue to apply MOVES using the same approaches described in the Emission Inventory Technical Support Document released with the Transport Rule proposal (http://www.epa.gov/airquality/transport/pdfs/TR_Proposal_Emissions_TSD.pdf; Section 3.3.1). The revised approach will be similar to the approach described in the Technical Support Document for the proposed rule in the following key ways: (1) EPA will allocate State-total MOVES results to counties by pollutant and process using results from MOBILE6 and the National Mobile Inventory Model; and (2) EPA will use MOVES defaults rather than State-specific or county-specific MOVES inputs.

• EPA proposes to use the final projections from 2002 to 2005, 2012, and 2014 emissions for the category 3 commercial marine sector to reflect the final category 3 commercial marine Emissions Control Area proposal to the International Maritime Organization (EPA-420-F-10-041, August 2010).

• EPA proposes to reduce the boundaries used to allocate category 3 commercial marine emissions to States from 200 nautical miles to reflect State waters (3-10 nautical miles) based on Mineral Management Service State-federal boundary data consistent with approaches used for the 2005 and 2008 National Emissions Inventories.

• EPA proposes to include the data revisions identified above in the final Transport Rule, modified to address any comments that EPA receives as part of the transport rulemaking effort. Changes in the emissions data could impact the final rulemaking in a number of ways including, but not limited to:

1. Changing base year emissions and emissions projections could impact which downwind areas have projected air quality concerns absent this rulemaking (i.e., non-attainment or maintenance).

2. Changing emissions projections could impact EPA assessment of which States contribute to those problems.

Between now and the time that EPA finalizes the Transport Rule, additional information used to support the final transport rulemaking may be placed in the docket. As noted above, EPA is requesting comment only on the data and revisions explicitly identified in this document. EPA requested comment on all aspects of its emissions inventories in the proposed Transport Rule. The comment period for that proposal closed on October 1, 2010. EPA has not yet reviewed all comments received on the proposed Transport Rule and notes that emission inventory data may be further revised based on comments received on the proposed Transport Rule or on additional information that becomes available before the rule is finalized.

Dated: October 20, 2010.
Mary Henigin,
Acting Director, Office of Air Quality Planning and Standards.

[FR Doc. 2010-27171 Filed 10-26-10; 8:45 am]

BILLING CODE 6560-50-P